DEPARTMENT OF THE INTERIOR

Bureau of Ocean Energy Management

[Docket ID: BOEM-2021-0010]

Gulf of Mexico, Outer Continental Shelf, Oil and Gas Lease Sale 257

AGENCY: Bureau of Ocean Energy Management, Interior.

ACTION: Notice to rescind a record of decision.

SUMMARY: This Notice advises the public that the Bureau of Ocean Energy Management (BOEM) is rescinding the Record of Decision (ROD) for Gulf of Mexico (GOM) Outer Continental Shelf (OCS) Oil and Gas Lease Sale 257.

DATES: The ROD is rescinded immediately.

FOR FURTHER INFORMATION CONTACT: For information on the status of the environmental review for GOM OCS Oil and Gas Lease Sale 257 or BOEM's policies associated with this Notice to Rescind, please contact Ms. Helen Rucker, Chief, Environmental Assessment Section, Office of Environment (GM 623E), Bureau of Ocean Energy Management, Gulf of Mexico Regional Office, 1201 Elmwood Park Boulevard, New Orleans, Louisiana 70123-2394, telephone 504-736-2421, or email at helen.rucker@boem.gov.

SUPPLEMENTARY INFORMATION: On January 21, 2021, BOEM published on its website a ROD documenting a decision to proceed with GOM OCS Oil and Gas Lease Sale 257 (GOM Lease Sale 257) on March 17, 2021. Once noticed for final sale, GOM Lease Sale 257 would have comprised the Western and Central Planning Areas and a small portion of the Eastern Planning Area not subject to congressional moratorium. On January 27, 2021, the President signed Executive Order 14008, which directed the Secretary of the Interior to pause new oil and gas leasing on public lands and offshore waters, consistent with applicable law, pending completion of a comprehensive review of Federal oil and gas activities, including climate and other associated impacts. BOEM now rescinds the record of decision for GOM Lease Sale 257 to comply with Executive Order 14008. After completion of the review specified in the Executive Order, BOEM may reevaluate GOM Lease Sale 257 and publish an appropriate ROD in the Federal Register.

Authority: This Notice to rescind the ROD is published pursuant to 43 U.S.C. 1337, 40 CFR 1505.2 and 1506.6 (2019 ed.).

Michael A. Celata,
Regional Director, Gulf of Mexico Regional Office, Department of the Interior Regions 1, 2, 4, and 6, Bureau of Ocean Energy Management.

[FR Doc. 2021-03259 Filed 2-17-21; 8:45 am]

BILLING CODE 4310-MR-P